NATIONAL ARCHIVES AND RECORDS ADMINISTRATION

[NARA-2022-042]

Agency Information Collection Activities: Submission for OMB Review; Comment Request

AGENCY: National Archives and Records Administration (NARA).

ACTION: Notice.

SUMMARY: We have submitted a request to the Office of Management and Budget (OMB) for approval to use a new information collection. We are beginning a new recruitment program that connects veterans and Schedule A-eligible applicants with an opportunity for non-competitive employment. We propose to collect information from people who are interested in these opportunities in order to consider them for the positions and match them with possible jobs. The collection includes approval of a form, NARA Employment Interest Questionnaire, NA Form 3102. We invite you to comment on this proposed information collection.

DATES: OMB must receive written comments on or before June 17, 2022.

ADDRESSES: Send any comments and recommendations on the proposed information collection in writing to www.reginfo.gov/public/do/PRAMain. You can find this particular information collection by selecting “Currently under 30-day Review—Open for Public Comments” or by using the search function.

FOR FURTHER INFORMATION CONTACT: Tamee Fechhelm, Paperwork Reduction Act Officer, by email at tamee.fechhelm@nara.gov or by telephone at 301.837.1694 with any requests for additional information.

SUPPLEMENTARY INFORMATION: Pursuant to the Paperwork Reduction Act of 1995 (Pub. L. 104-13), we invite the public and other Federal agencies to comment on proposed information collections. We published a notice of proposed collection for this information collection on March 8, 2022 (87 FR 13009) and we received no comments. We are therefore submitting the described information collection to OMB for approval.

If you have comments or suggestions, they should address one or more of the following points: (a) Whether the proposed information collection is necessary for NARA to properly perform its functions; (b) our estimate of the burden of the proposed information collection and its accuracy; (c) ways we could enhance the quality, utility, and clarity of the information we collect; (d) ways we could minimize the burden on respondents of collecting the information, including through information technology; and (e) whether this collection affects small businesses.

In this notice, we solicit comments concerning the following information collection:

Title: Schedule A and Veterans Recruitment Initiative Information.

OMB number: 3095-NEW.

Agency form number: NA Form 3102, NARA Employment Interest Questionnaire.

Type of review: Regular.

Affected public: Individuals or households.

Estimated number of respondents: 600.

Estimated time per response: 5 minutes.

Frequency of response: On occasion.

Estimated total annual burden hours: 50.

Abstract: We are implementing a new recruitment initiative by which we work to connect people who are veterans or are Schedule A-eligible with non-competitive employment opportunities within our agency. The Special Program Placement Coordinator (SPPC) serves as a liaison between the applicant and NARA managers and supervisors to find viable employment opportunities for applicants.

SPPC has developed a Resumé Repository (retained in a spreadsheet) to store resumés of qualified individuals who may meet our hiring needs. The Repository helps our agency find highly motivated veterans and Schedule A candidates who are eager to demonstrate their abilities in the workplace through excepted service positions, which could become permanent positions after trial period requirements have been met.

We collect the information for the Repository through an online form, NARA Employment Interest Questionnaire, NA Form 3102, which includes the following information for each individual: Applicant name, email address, phone number, types of positions applicant is interested in (may be multiple areas of interest), applicant's desired location(s), and minimum starting grade level applicant is willing to accept.

We enter the collected information from the questionnaire into the Repository spreadsheet, which managers and supervisors can use to sort and filter by position(s) of interest and/or duty location. We include resumés and cover letters as a link beside each candidate's entry so managers can view them and consider the candidate when looking for an employee. Managers have unlimited access to the Repository information and resumés to select qualified applicants to fill vacancies through a direct, non-competitive hire.

The Schedule A and veterans recruitment questionnaire link will be listed in our agency's information on the OPM website, in information provided by other agencies and organizations with similar programs, and on various pages of our agency's website at www.archives.gov.

Candidates must be U.S. citizens, eligible veterans, or be eligible under the Schedule A hiring authority.

Swarnali Haldar,
Executive for Information Services/CIO.

[FR Doc. 2022-10641 Filed 5-17-22; 8:45 am]

BILLING CODE 7515-01-P